SMALL BUSINESS ADMINISTRATION

[Declaration of Disaster #3347; State of Texas Amendment #5]

State of Texas

In accordance with a notice received from the Federal Emergency Management Agency, dated August 30, 2001, the above-numbered Declaration is hereby amended to extend the deadline for filing applications for physical damages as a result of this disaster to October 7, 2001.

All other information remains the same, i.e., the deadline for filing applications for loans for economic injury is March 8, 2002.

(Catalog of Federal Domestic Assistance Program Nos. 59002 and 59008)
Dated: September 4, 2001.
James E. Rivera,
Acting Associate Administrator for Disaster Assistance.

[FR Doc. 01-22964 Filed 9-12-01; 8:45 am]

BILLING CODE 8025-01-P